DEPARTMENT OF THE INTERIOR

National Park Service

Native American Graves Protection and Repatriation Review Committee: Meeting

AGENCY: National Park Service, Interior.

ACTION: Notice.

Notice is here given in accordance with the Federal Advisory Committee Act, 5 U.S.C. Appendix (1988), of a meeting of the Native American Graves Protection and Repatriation Review Committee (Review Committee). The Review Committee will meet on May 23-24, 2009, at The Red Lion Hotel on Fifth Avenue, 1415 Fifth Avenue, Seattle, WA 98101. Meeting sessions will begin at 8:30 a.m. and end at 5 p.m. each day.

The agenda for the meeting includes an update on National NAGPRA Program activities during the first half of fiscal year 2009; activity reports from the National NAGPRA Program as requested by the Review Committee; requests for recommendations regarding the disposition of culturally unidentifiable human remains; disputes; presentations by Indian tribes, Native Hawaiian organizations, museums, Federal agencies, and the public; and the selection of dates and a site for the spring 2010 meeting.

A detailed agenda for this meeting will be posted on or before March 27, 2009, at http://www.nps.gov/history/nagpra/.

The Review Committee will consider the following requests: By anyone, to make a presentation; by museums and Federal agencies, to act on an agreement concerning the disposition of human remains determined to be culturally unidentifiable (CUI); and by Indian tribes, Native Hawaiian organizations, lineal descendants, museums, and Federal agencies, to facilitate a dispute and make findings of fact and recommendations related to the identity, cultural affiliation, and/or return of human remains and other cultural items.

Requests to make a presentation must include an abstract of the presentation and contact information for the presenter(s).

Requests to act on a CUI agreement should be made on the form posted on the National NAGPRA Program Web site, and also should include all the materials requested on the form. To access and download the form, go to http://www.nps.gov/history/nagpra; then click on “Review Committee;” then click on “Procedures;” then, under “Request by a Museum/Federal Agency for a CUI Disposition Agreement,” click on the highlighted word “form.” Requests to consider a dispute should include—

a. A statement outlining the relevant facts of the dispute, including citations of applicable portions of NAGPRA and NAGPRA regulations.

b. Copies of any primary documents that are directly relevant to the issues in dispute, including, but not limited to, field notes, catalog records, consultation documents, relevant studies, and other pertinent data.

c. A statement describing the requesting party's interpretation of the facts.

d. A statement identifying all interested parties and describing the requesting party's understanding of the other party's/parties' interpretation of the facts.

e. A summary of the consultation record.

f. A statement of previous efforts to resolve the dispute, including, where applicable, the results of alternative dispute resolution efforts.

g. Proposed solutions.

The Review Committee will consider requests received on or before February 23, 2009. Send requests to: Designated Federal Officer, NAGPRA Review Committee, National Park Service, National NAGPRA Program, 1201 Eye Street, NW., 8th Floor (2253), Washington, DC 20005.

The transcript of the May Review Committee meeting will be available, on request, approximately ten weeks after the meeting. For a transcript, contact the Designated Federal Officer, at David_Tarler@nps.gov. Information about NAGPRA, the Review Committee, and Review Committee meetings is available at the National NAGPRA Program Web site, http://www.nps.gov/history/nagpra/. For the Review Committee's meeting procedures, click on “Review Committee,” then click on “Procedures.”

The Review Committee was established by Section 8 of Native American Graves Protection and Repatriation Act of 1990 (NAGPRA), 25 U.S.C. 3006. Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Committee; consulting with the Secretary of the Interior on the development of regulations to carry out NAGPRA; and making recommendations regarding future care of repatriated cultural items. The Review Committee's work is carried out during the course of meetings that are open to the public.

Dated: November 21, 2008.
David Tarler,
Designated Federal Officer, Native American Graves Protection and Repatriation Review Committee.

[FR Doc. E8-30902 Filed 12-30-08; 8:45 am]

BILLING CODE 4310-70-M